DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 76493-76499, dated December 9, 2015) is amended to reflect the reorganization of the Division of Communication Services, Office of the Associate Director for Communication, Centers for Disease Control and Prevention.

Section C-B, Organization and Functions, is hereby amended as follows:

Delete in its entirety the title and the mission and function statements for the Division of Communication Services (CAUD) and insert the following:

Division of Communication Services (CAUD). The Division of Communication Services (DCS) provides agency-wide CDC graphics, broadcast, photography, translation, interpretation, public information, and communication consultation/analysis leadership and support. To carry out its mission, the division performs the following functions: (1) Ensures broadcast functionality/broadcast engineering support including connectivity among physical assets such as the Global Communications Center, Emergency Operations Center, and continuity of operations for CDC; (2) develops and disseminates video and audio production; (3) manages CDC graphic design and production services including CDC branding and identity standards; (4) supports new broadcast communication mechanisms (e.g. HHS TV, CDC TV, radio/TV broadcast, podcast, webcast, and videos-on-demand) for CDC programs; (5) provides support for broadcast delivery press conferences and media interviews; (6) provides scientific and events photography; (7) provides multilingual translation and interpretation, and cross cultural communication assistance to Centers, Institute and Offices (CIOs) across CDC; (8) provides consultation and analysis of consumer research data to CIOs used for developing and evaluating health communication and marketing to specific audiences; (9) manages day-to-day operations of meeting space within CDC's meeting center, the Global Communications Center; and (10) manages CDC-INFO (CDC's telephone, email, and publications fulfillment services center); (11) oversees the agency-wide print management program; (12) manages CDC-wide information services including electronic and postal distribution lists, and electronic announcements; and (13) provides writer-editor services on behalf of CDC Office of the Director.

Office of the Director (CAUD1). (1) Develops the strategic priorities and manages the program activities of the division; (2) provides leadership for ensuring all DCS products are of the highest quality; (3) helps CIOs use existing or develop new mechanisms for communicating with the public and CDC partners; (4) coordinates support for meetings held in the Global Communications Center with internal and external customers; (5) coordinates the use of the CDC exhibit for public health conferences; (6) manages overall IT-related functions for the division, including Create-IT (DCS' online internal tracking and triage system), Trados SDL (translation memory application), and CDC-INFO IT applications; (7) provides and manages multi-year, multi-vendor CDC-wide communication contracts mechanism for use by CIO clients; (8) updates and manages Create-IT system for tracking and triage of work requests including associated customer satisfaction and other performance metrics for internal and external (CIO) use; (9) oversees the agency-wide print management program; (10) manages CDC-wide information services including electronic distribution lists, and electronic announcements; (11) administers CDC wide multi-year, multi-vendor communication contracts mechanism; (12) advises on methods for gaining public input on health issues and priorities (e.g., advisory mechanisms, focus groups, polling, legislative, and media tracking); (13) manages contract resources and provides analysis relative to audience segmentation and behavior, and (14) provides agency-wide multi-lingual service (MLS) support to include direct Spanish language translation, facilitating and coordinating support for other languages, and cross-cultural communication assistance as well as MLS leadership (e.g. implementation of agency Language Access Plan).

Broadcast Services Branch (CAUDB). (1) Develops and produces audio, video, and multi-media health information products; (2) provides CDC with global communication capacity for high-definition broadcast, webcast and emerging social and health media delivery channels; (3) supports the CDC Emergency Operations Center to provide response capacity and capability for emergency broadcasts; (4) develops and delivers health information broadcast programs in coordination with HHS for the public, including podcasts, CDC-TV and other channels; (5) creates and produces communication using new forms of social and electronic media; (6) collaborates with other areas of CDC to review and recommend potential audio and video technology; and (7) develops distance education, health communication, and training products to reach public health partners and professionals.

Graphics Services Branch (CAUDC). (1) Leads and coordinates CDC visual information activities; (2) develops and produces graphic illustrations, including scientific posters, infographics, desktop published documents, visual presentations, conference materials, brochures and fact sheets, newsletters, and exhibits; (3) manages scientific and event photography; (4) provides creative direction and brand management guidance for graphics products and sets guidelines and standards for quality and consistency across the agency; (5) manages tracking and triage function within Create-IT system for management of work requests; and (6) provides technical assistance on large or multidisciplinary projects to provide a consistent approach across communication products.

CDC-INFO and Print Services Branch (CAUDD). (1) Provides the public with accessible, accurate, and credible health information in English and Spanish, 24/7, to include phone, email and U.S. mail; (2) ensures the CDC-INFO call center standards are kept for quality assurance, customer satisfaction, performance, and health impact when dealing with the public; (3) provides surge (to include 24/7) support through the 1-800 call center for public health emergencies and establishes policies and procedures with the CDC Emergency Operations Center, Joint Information Center; (4) manages CDC's ordering and distribution facility for health publications; (5) liaisons with contract suppliers, the Government Printing Office, HHS, and other agencies on matters pertaining to print and publication procurement; (6) analyzes and reports CDC-INFO data to inform communication planning and programs throughout the agency; and (7) provides writer-editor support for the Office of the Director.

Sherri A. Berger,
Chief Operating Officer, Centers for Disease Control and Prevention.

[FR Doc. 2016-01676 Filed 1-27-16; 8:45 am]

BILLING CODE 4160-18-P